DEPARTMENT OF HOUSING AND URBAN DEVELOPMENT

[Docket No. FR-5642-D-02]

Order of Succession for the Office of Community Planning and Development

AGENCY: Office of the Secretary, HUD.

ACTION: Notice of Order of Succession for the Office of Community Planning and Development.

SUMMARY: In this notice, the Secretary of HUD designates the Order of Succession for the Office of Community Planning and Development. This Order of Succession supersedes all prior Orders of Succession for the Assistant Secretary for Community Planning and Development, including the Order of Succession, published on October 18, 2011 at 76 FR 64364.

DATES: Effective Date: May 16, 2012.

FOR FURTHER INFORMATION CONTACT: David H. Enzel, Director, Office of Technical Assistance and Management, Department of Housing and Urban Development, 451 7th Street SW., Room 7228, Washington, DC 20410, telephone number 202-402-5557. (This is not a toll-free number.) This number may be accessed via TTY by calling the Federal Relay Service at 800-877-8339 (this is a toll-free number).

SUPPLEMENTARY INFORMATION: The Secretary of HUD is issuing this Order of Succession of officials authorized to perform the functions and duties of the Office of the Assistant Secretary for Community Planning and Development when, by reason of absence, disability, or vacancy in office, the Assistant Secretary is not available to exercise the powers or perform the duties of the office. This Order of Succession is subject to the provisions of the Federal Vacancies Reform Act of 1998 (5 U.S.C. 3345-3349d). This publication supersedes all prior Orders of Succession for the Office of Community Planning and Development, including the Order of Succession published in the Federal Register on October 18, 2011 (76 FR 64364).

Accordingly, the Secretary of HUD designates the following Order of Succession for the Office of Community Planning and Development:

Section A. Order of Succession

Subject to the provisions of the Federal Vacancies Reform Act of 1998, during any period when, by reason of absence, disability, or vacancy in office, the Assistant Secretary is not available to exercise the powers or perform the duties of the Assistant Secretary for Community Planning and Development, the following officials within the Office of Community Planning and Development are hereby designated to exercise the powers and perform the duties of the Office, including the authority to waive regulations:

(1) Deputy Assistant Secretary for Special Needs Programs;

(2) General Deputy Assistant Secretary for Community Planning and Development;

(3) Deputy Assistant Secretary for Grant Programs;

(4) Deputy Assistant Secretary for Operations;

(5) Deputy Assistant Secretary for Economic Development.

These officials shall perform the functions and duties of the office in the order specified herein, and no official shall serve unless all the other officials, whose position titles precede his/hers in this order, are unable to act by reason of absence, disability, or vacancy in office.

Section B. Authority Superseded

This Order of Succession supersedes all prior Orders of Succession for the Assistant Secretary for Community Planning and Development, including the notice at 76 FR 64364. (October 18, 2011).

Authority: Section 7(d), Department of Housing and Urban Development Act, 42 U.S.C. 3535(d).

Dated: May 16, 2012.
Shaun Donovan,
Secretary of Housing and Urban Development.

[FR Doc. 2012-13100 Filed 5-29-12; 8:45 am]

BILLING CODE 4210-67-P